DEPARTMENT OF THE TREASURY

Bureau of the Fiscal Service

Proposed Collection of Information: Subscription for Purchase and Issue of U.S. Treasury Securities, State and Local Government Series

ACTION: Notice and request for comments.

SUMMARY: The Department of the Treasury, as part of its continuing effort to reduce paperwork and respondent burden, invites the general public and other Federal agencies to take this opportunity to comment on proposed and/or continuing information collections, as required by the Paperwork Reduction Act of 1995. Currently the Bureau of the Fiscal Service within the Department of the Treasury is soliciting comments concerning the Subscription for Purchase and Issue of U.S. Treasury Securities, State and Local Government Series.

DATES: Written comments should be received on or before February 26, 2018 to be assured of consideration.

ADDRESSES: Direct all written comments and requests for additional information to Bureau of the Fiscal Service, Bruce A. Sharp, 200 Third Street, Room 4006-A, Parkersburg, WV 26106-1328, or bruce.sharp@fiscal.treasury.gov.

SUPPLEMENTARY INFORMATION: Title: Subscription for Purchase and Issue of U.S. Treasury Securities, State and Local Government Series.

OMB Number: 1530-0065.

Transfer of OMB Control Number: The Bureau of Public Debt (BPD) and Financial Management Service (FMS) have consolidated to become the Bureau of the Fiscal Service (Fiscal Service). Information collection requests previously held separately by BPD and FMS will now be identified by a 1530 prefix, designating Fiscal Service.

Form Number:

FS Form 4144—Subscription for Purchase and Issuing of U.S. Securities State and Local Government Series Time Deposits

FS Form 4144-1—Account Information for U.S. Treasury Securities State and Local Government Series Time Deposits

FS Form 4144-2—Schedule of U.S. Treasury Securities State and Local Government Series Time Deposits

FS Form 4144-5—Application for Internet Access—U.S. Treasury Securities State and Local Government Series

FS Form 4144-6—SLGSafe User Acknowledgement

FS Form 4144-7—SLGSafe Template Worksheet

Abstract: The information is requested to establish and maintain accounts for the owners of securities of the State and Local Government Series.

Current Actions: Extension of a currently approved collection.

Type of Review: Emergency.

Affected Public: State and Local Government.

Estimated Number of Respondents: 6,708.

Estimted Time per Respondent: 24 minutes.

Estimated Total Annual Burden Hours: 2,713.

Request for Comments: Comments submitted in response to this notice will be summarized and/or included in the request for OMB approval. All comments will become a matter of public record. Comments are invited on: 1. Whether the collection of information is necessary for the proper performance of the functions of the agency, including whether the information shall have practical utility; 2. the accuracy of the agency's estimate of the burden of the collection of information; 3. ways to enhance the quality, utility, and clarity of the information to be collected; 4. ways to minimize the burden of the collection of information on respondents, including through the use of automated collection techniques or other forms of information technology; and 5. estimates of capital or start-up costs and costs of operation, maintenance, and purchase of services to provide information.

Dated: December 21, 2017.
Bruce A. Sharp,
Bureau Clearance Officer.

[FR Doc. 2017-27926 Filed 12-26-17; 8:45 am]

BILLING CODE 4810-AS-P